DEPARTMENT OF TRANSPORTATION

Federal Aviation Administration

RTCA; Special Committee 194; ATM Data Link Implementation

Pursuant to section 10(a)(2) of the Federal Advisory Committee Act (P.L. 92-463, 5 U.S.C., Appendix 2), notice is hereby given for Special Committee 194 meeting to be held March 13, 2000, starting at 9:00 a.m. The meeting will be held at RTCA, 1140 Connecticut Ave., NW, Suite 1020, Washington, DC 20036.

The agenda will include: March 13: Plenary Session: (1) Welcome and Introductory Remarks; (2) Review Meeting; Agenda; (3) Continue Review, Discussion, and Disposition of Ballot Comments on Working Group 3 Document, Human Factors Minimum Operational Performance Standards for Controller Pilot Data Link Communications Systems: Build 1 and Build 1A; (4) Other Business; (5) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on February 15, 2000.
Janice L. Peters,
Designated Official.

[FR Doc. 00-4109 Filed 2-18-00; 8:45 am]

BILLING CODE 4910-13-M